DEPARTMENT OF JUSTICE

Parole Commission

Sunshine Act Meeting

DATE AND TIME: Thursday, November 14, at 1:00 p.m.

PLACE: U.S. Parole Commission, 90 K Street NE, 3rd Floor, Washington, DC.

STATUS: Open.

MATTERS TO BE CONSIDERED:

1. Approval of June 12, 2024, Meeting Minutes.

2. Verbal Updates since the June Meeting from the Acting Chairman, Commissioner, Acting Chief of Staff/Case Operations Administrator, Case Services Administrator, Acting Executive Officer, and General Counsel.

CONTACT PERSON FOR MORE INFORMATION: Jacquelyn Graham, Staff Assistant to the Chairman, U.S. Parole Commission, 90 K Street NE, 3rd Floor, Washington, DC 20530, (202) 346-7010.

Dated: November 6, 2024.
Patricia K. Cushwa,
Chairman (Acting), U.S. Parole Commission.

[FR Doc. 2024-26320 Filed 11-7-24; 4:15 pm]

BILLING CODE 4410-31-P